DEPARTMENT OF COMMERCE

Patent and Trademark Office

[Docket No. PTO-C-2022-0020]

Performance Review Board

AGENCY: United States Patent and Trademark Office, Commerce.

ACTION: Notice.

SUMMARY: In conformance with the Civil Service Reform Act of 1978, the United States Patent and Trademark Office (USPTO) announces the appointment of persons to serve as members of its Performance Review Board (PRB).

ADDRESSES: Office of Human Resources, USPTO, P.O. Box 1450, Alexandria, VA 22313-1450.

FOR FURTHER INFORMATION CONTACT: Lari B. Washington, Director, Human Capital Management, USPTO, at 571-272-5187.

SUPPLEMENTARY INFORMATION: The membership of the USPTO PRB is as follows:

Derrick Brent, Chair, Deputy Under Secretary of Commerce for Intellectual Property and Deputy Director of the USPTO.

Frederick W. Steckler, Vice Chair, Chief Administrative Officer, USPTO.

Andrew I. Faile, Acting Commissioner for Patents, USPTO.

David S. Gooder, Commissioner for Trademarks, USPTO.

Dennis J. Hoffman, Chief Financial Officer, USPTO.

Henry J. Holcombe, Chief Information Officer, USPTO.

David L. Berdan, General Counsel, USPTO.

Mary Critharis, Chief Policy Officer and Director for International Affairs, USPTO.

Gerard F. Rogers, Chief Administrative Trademark Judge, USPTO.

Scott R. Boalick, Chief Administrative Patent Judge, USPTO.

Bismarck Myrick, Director of the Office of Equal Employment Opportunity and Diversity, USPTO.

Cara Duckworth, Chief Corporate Communications Officer, USPTO.

Alternates:

Richard Seidel, Deputy Commissioner for Patents, USPTO.

Amy Cotton, Deputy Commissioner for Trademark Examination Policy, USPTO.

Katherine K. Vidal,
Under Secretary of Commerce for Intellectual Property and Director of the United States Patent and Trademark Office.

[FR Doc. 2022-18543 Filed 8-26-22; 8:45 am]

BILLING CODE 3510-16-P